DEPARTMENT OF ENERGY

Federal Energy Regulatory Commission

[Docket No. RP99-301-045]

ANR Pipeline Company; Notice of Negotiated Rate Filing

April 3, 2002.

Take notice that on March 28, 2002, ANR Pipeline Company (ANR), tendered for filing one Firm Storage Service Agreement and a description of the essential conditions involved in agreeing to a Negotiated Rate Arrangement. ANR requests that the Commission approve the Negotiated Rate Arrangement to be effective on April 1, 2002.

ANR states that the filed Negotiated Rate Arrangement reflects a negotiated rate between ANR and Dynegy Marketing and Trade for transportation service, under one Storage Service agreement for a period to be effective beginning April 1, 2002, until June 30, 2007.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-8507 Filed 4-8-02; 8:45 am]

BILLING CODE 6717-01-P